DEPARTMENT OF TRANSPORTATION

Federal Aviation Administration

14 CFR Part 39

[Docket No. FAA-2005-20802; Directorate Identifier 2005-CE-18-AD; Amendment 39-14282; AD 2005-19-17]

RIN 2120-AA64

Airworthiness Directives; PZL-Swidnik S.A. Models PW-5 “Smyk” and PW-6U Gliders

AGENCY: Federal Aviation Administration (FAA), DOT.

ACTION: Final rule.

SUMMARY: The FAA adopts a new airworthiness directive (AD) for certain PZL-Swidnik S.A. (PZL-Swidnik) Models PW-5 “Smyk” and PW-6U gliders. This AD requires you to inspect for the minimum dimension of the left side aileron, right side aileron, and airbrake push-rod ends for certain Model PW-5 “Smyk” gliders; inspect for the minimum dimension of the aileron, airbrake, and elevator control push-rod ends for certain Model PW-6U gliders; and replace any push-rod end that does not meet the minimum dimension. This AD results from mandatory continuing airworthiness information (MCAI) issued by the airworthiness authority for Poland. We are issuing this AD to detect and replace any push-rod end that does not meet the minimum dimension, which could result in failure of the control system. This failure could lead to loss of control of the glider.

DATES: This AD becomes effective on October 31, 2005.

As of October 31, 2005, the Director of the Federal Register approved the incorporation by reference of certain publications listed in the regulation.

ADDRESSES: To get the service information identified in this AD, contact PZL-Swidnik S.A., Polish Aviation Works, Al. Lotnikow Polskich 1, 21-045 Swidnik, Poland; telephone: 48 81 468 09 01 751 20 71; facsimile: 48 81 468 09 19 751 21 73.

To view the AD docket, go to the Docket Management Facility; U.S. Department of Transportation, 400 Seventh Street, SW., Nassif Building, Room PL-401, Washington, DC 20590-001 or on the Internet at http://dms.dot.gov. The docket number is FAA-2005-20802; Directorate Identifier 2005-CE-18-AD.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Discussion

What events have caused this AD? The General Inspectorate of Civil Aviation (GICA), which is the airworthiness authority for Poland, recently notified FAA that an unsafe condition may exist on certain PZL-Swidnik S.A. (PZL-Swidnik) gliders. The GICA reports that an owner of a Model PW-6U glider found the dimension of the push-rod end to not meet the minimum dimension of 0.165 inches (in.) or 4.2 millimeter (mm). Further, the GICA reports that the manufacturer has identified a production run of these parts that do not meet the minimum dimension of the push-rod end. Similar push-rod ends, where applicable, are used to link the ailerons, airbrakes, and elevator control systems in the Models PW-5 “Smyk” and PW-6U gliders.

What is the potential impact if FAA took no action? Any push-rod end that does not meet the minimum dimension could result in failure of the control system. This failure could lead to loss of control of the glider.

Has FAA taken any action to this point? We issued a proposal to amend part 39 of the Federal Aviation Regulations (14 CFR part 39) to include an AD that would apply to certain PZL-Swidnik S.A. (PZL-Swidnik) Models PW-5 “Smyk” and PW-6U gliders. This proposal was published in the Federal Register as a notice of proposed rulemaking (NPRM) on April 27, 2005 (70 FR 21691). The NPRM proposed to require you to inspect for the minimum dimension of the left side aileron, right side aileron, and airbrake push-rod ends for certain Model PW-5 “Smyk” gliders; inspect for the minimum dimension of the aileron, airbrake, and elevator control push-rod ends for certain Model PW-6U gliders; and replace any push-rod end that does not meet the minimum dimension.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many gliders does this AD impact? We estimate that this AD affects 67 gliders in the U.S. registry.

What is the cost impact of this AD on owners/operators of the affected gliders? We estimate the following costs to do the inspection of the push-rod ends:

Labor cost | Parts cost | Total cost per glider | Total cost on U.S. operators
1 work hour × $65 = $65 | Not applicable | $65 | 67 × $65 = $4,355.

We estimate the following costs to do any necessary push-rod end replacements that would be required based on the results of this inspection. We have no way of determining the number of gliders that may need this replacement:

Labor cost per push-rod end | Parts cost | Total cost per push-rod end per glider
1 work hour × $65 = $65 | Not applicable | $65

The manufacturer has stated that the costs for any required parts and transportation of the parts will be covered under the manufacturer's warranty.

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the National Government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-20802; Directorate Identifier 2005-CE-18-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-19-17 PZL-Swidnik S.A.: Amendment 39-14282; Docket No. FAA-2005-20802; Directorate Identifier 2005-CE-18-AD.

When Does This AD Become Effective?

(a) This AD becomes effective on October 31, 2005.

What Other ADs Are Affected by This Action?

(b) None.

What Gliders Are Affected by This AD?

(c) This AD affects the following glider models and serial numbers that are certificated in any category:

Model | Serial Nos.
PW-5 “Smyk” | 17.12.022 through 17.12.024.
PW-6U | 78.02.07 through 78.02.10 and 78.03.01 through 78.03.03.

What Is the Unsafe Condition Presented in This AD?

(d) This AD is the result of mandatory continuing airworthiness information (MCAI) issued by the airworthiness authority for Poland. The actions specified in this AD are intended to detect and replace any push-rod end that does not meet the minimum dimension, which could result in failure of the control system. This failure could lead to loss of control of the glider.

What Must I Do To Address This Problem?

(e) To address this problem, you must do the following:

Actions | Compliance | Procedures
(1) Inspect for the minimum dimension (0.165 inches (in.) or 4.2 millimeter (mm)): (i) Any left side aileron, right side aileron, and airbrake push-rod end (part number (P/N) 511.00.20.00) for the Model PW-5 “Smyk” glider; and (ii) Any aileron, airbake, and elevator control push-rod end (P/N 78.21.215.00.00) for the Model PW-6U glider | Within the next 25 hours time-in-service (TIS) after October 31, 2005 (the effective date of this AD), unless already done | For the Model PW-5 “Smyk” glider: Follow Communication Equipment Factory PZL-Swidnik Mandatory Bulletin Number BO-17-03-18, dated December 22, 2003. For the Model PW-6U glider: Follow Communication Equipment PZL-Swidnik Mandatory Bulletin Number BO-78-03-06, dated December 22, 2003. | (2) Replace any push-rod end (P/N 511.00.20.00 or 78.21.215.00.00) that you find as a result of the inspection requried by paragraph (e)(1) of this AD that has a push-rod end that is less than the minimum dimension (0.165 in. or 4.2 mm) | Before further flight after the the inspection requried by paragraph (e)(1) of this AD | For the Model PW-5 “Smyk” glider: Follow Communication Equipment PZL-Swidnik Mandatory Bulletin Number BO-17-03-18, dated December 22, 2003. For the Model PW-6U glider: Follow Communication Equipment Factory PZL-Swidnik Mandatory Bulletin Number BO-17-03-18, dated December 22, 2003.
(3) Do not install any push-rod end (P/N 511.00.20.00 or 78.21.215.00.00) with a dimension that is less than the minimum dimension (0.165 in. or 4.2 mm): (i) Any push-rod end for the left side aileron, right side aileron, or airbrake of the Model PW-5 Swidnik glider; and (ii) Any push-rod end for the ailerons, airbake, or elevator control of the Model PW-6U glider | As of October 31, 200 (the effective date of this AD) | For the Model PW-5 “Smyk” glider: Follow Communicaton Equipment Factory PZL-Swidnik Mandatory Bulletin Number BO-17-03-18, dated December 22, 2003. For the Model PW-6U glider: Follow Communication Equipment Factory PZL-Swidnik Mandatory Bulletin Number BO-78-03-06, dated December 22, 2003.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

Is There Other Information That Relates to This Subject?

(g) Polish AD Numbers SP-0085-2003-A, dated December 22, 2003, and SP-0086-2003, dated December 22, 2003, also address the subject of this AD.

Does This AD Incorporate Any Material by Reference?

(h) You must do the actions required by this AD following the instructions in Communication Equipment Factory PZL-Swidnik Mandatory Bulletin Number BO-17-03-18, dated December 22, 2003, and Communication Equipment Factory PZL-Swidnik Mandatory Bulletin Number BO-78-03-06, dated December 22, 2003. The Director of the Federal Register approved the incorporation by reference of this service bulletin in accordance with 5 U.S.C. 552(a) and 1 CFR part 51. To get a copy of this service information, contact PZL-Swidnik S.A., Polish Aviation Works, Al. Lotnikow Polskich 1, 21-045 Swidnik, Poland; telephone: 48 81 468 09 01 751 20 71; facsimile: 48 81 468 09 19 751 21 73. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-20802; Directorate Identifier 2005-CE-18-AD.

Issued in Kansas City, Missouri, on September 12, 2005.
James E. Jackson,
Acting Manager, Small Airplane Directorate, Aircraft Certification Service.

[FR Doc. 05-18526 Filed 9-20-05; 8:45 am]

BILLING CODE 4910-13-P